ENVIRONMENTAL PROTECTION AGENCY

[EPA CERCLA Docket No. V-W-18-C-012; FRL-9982-26-Region 5]

Proposed CERCLA/RCRA/TSCA Administrative Settlement Agreement and Covenant Not To Sue; MSC Land Company, LLC, and Crown Enterprises, Inc.; Former McLouth Steel Facility, Trenton and Riverview, Michigan

AGENCY: Environmental Protection Agency (EPA).

ACTION: Notice of proposed settlement agreement and request for public comments.

SUMMARY: The Environmental Protection Agency (EPA) hereby gives notice of a proposed Administrative Settlement Agreement and Covenant Not to Sue (Settlement) pertaining to a 183-acre portion of the former McLouth Steel facility in Trenton and Riverview, Michigan. EPA also announces a public meeting regarding the Settlement and invites public comment on the Settlement for thirty (30) days following publication of this notice. The Settlement requires MSC Land Company, LLC (“MSC”) to do specified work, meet a demolition requirement that includes demolition of approximately 45 buildings and structures located within the property, and comply with specified property requirements. Satisfying the work and demolition requirements, and complying with the property requirements safeguards human health and the environment by reducing the risk of exposure to certain hazardous wastes and substances.

DATES: Comments must be post marked or received on or before September 13, 2018.

ADDRESSES: The proposed settlement agreement and related site documents can be viewed at the Superfund Records Center, (SRC-7J), United States Environmental Protection Agency, Region 5, 77 W Jackson Blvd., Chicago, IL 60604, (312) 886-4465 and on-line at www.epa.gov/superfund/mclouth-steel.

FOR FURTHER INFORMATION CONTACT: Further information or a copy of the Settlement may be obtained from either Steven P. Kaiser, Office of Regional Counsel (C-14J), U.S. Environmental Protection Agency, Region 5, 77 W Jackson Boulevard, Chicago, Illinois 60604, (312) 353-3804 or kaiser.steven@epa.gov or Community Involvement Coordinator Kirstin Safakas, Superfund Division (SI-6J), U.S. Environmental Protection Agency, Region 5, 77 W Jackson Boulevard, Chicago, Illinois 60604, (312) 886-6015 or safakas.kirstin@epa.gov.

SUPPLEMENTARY INFORMATION:

I. Background Information

In accordance with Section 122(i) of the Comprehensive Environmental Response, Compensation, and Liability Act, as amended (“CERCLA”), 42 U.S.C. 9622(i) and Section 7003(d) of the Resource Conservation and Recovery Act, 42 U.S.C. 6973(d), notice is hereby given of a proposed Settlement pertaining to the former McLouth Steel facility in Trenton and Riverview, Michigan with the following settling parties: MSC and Crown Enterprises, Inc. The Settlement requires MSC to perform certain work, meet demolition requirements, and comply with specified property requirements. MSC will also fence and otherwise secure the approximately 183-acre site to prevent direct contact with contaminants and keep out trespassers. Prior to commencement of the work or actions in furtherance of the demolition requirement, MSC will prepare a Traffic Management Plan in consultation with EPA, MDEQ and the Cities of Trenton and Riverview. The work required by MSC includes the removal of contaminated water and sludges from 23 specified subsurface structures; cleaning or removal of the subsurface structures; and filling the subsurface structures with clean fill materials. These actions will reduce migration of contaminants to ground and surface waters. MSC will investigate five areas where PCBs may have been released. If PCBs are found above action levels, MSC will implement defined interim measures to prevent direct contact with PCB-contaminated areas pending further action by either EPA or MSC. MSC will assess options for storm water management to eliminate sheet flow to the Trenton Channel of the Detroit River and summarize its assessment in a stormwater management report that it will submit to EPA and the State. MSC will remain subject to provisions of the Clean Water Act, including requirements to obtain any permits that may be necessary for discharges to waters of the United States. Finally, MSC will demolish to grade approximately 45 buildings and structures including an approximately 1.5 million square foot building along Jefferson Avenue. During demolition, MSC will remove and dispose of all asbestos containing materials encountered in the structures; remove and dispose of all PCB-waste material encountered in the structures; and remove and dispose of all drummed or containerized solid or hazardous wastes in the structures in accordance with State and federal regulations. These actions will also reduce the threat of exposure to hazardous wastes and substances by removing these wastes and substances from the property. Throughout this work, MSC will maintain dust controls to minimize the creation and migration of airborne contaminants.

The Settlement includes an EPA covenant not to sue the settling parties pursuant to either Sections 106 and 107 of CERCLA, 42 U.S.C. 9606 and 9607; Section 3008(h) 7003 of the Resource Conservation and Recovery Act (“RCRA”), 42 U.S.C. 6928(h) and 6973; and Sections 7 and 17 of TSCA, 15 U.S.C. Section 2606 and 2616. The Settlement also includes covenants not to sue by the State of Michigan.

II. Opportunity To Comment

A. General Information

EPA intends to hold a public meeting regarding the Settlement in the affected area, in accordance with Section 7003(d) of the Resource Conservation and Recovery Act, 42 U.S.C. 6973(d). The meeting will be held at the Saint Paul Lutheran Church, Reception Hall, 2550 Edsel Drive, Trenton, Michigan, starting at 6:00 p.m. on Wednesday, September 5, 2018. Representatives of the EPA and MDEQ will attend the public meeting to provide information and answer questions about the Settlement. Formal comments relating to the Settlement will be accepted in oral and written form at the public meeting.

For thirty (30) days following the date of publication of this notice, the Agency will receive written comments relating to the Settlement. The Agency will consider all comments received, and may modify or withdraw its consent to the Settlement if comments received disclose facts or considerations which indicate that the Settlement is inappropriate, improper, or inadequate.

B. Where do I send my comments or view responses?

Your comments should be mailed to Kirstin Safakas, Superfund Division (SI-6J), U.S. Environmental Protection Agency, Region 5, 77 W Jackson Boulevard, Chicago, Illinois 60604, or safakas.kirstin@epa.gov. The Agency's response to any comments received will be available for public inspection at the Superfund Records Center.

C. What should I consider as I prepare my comments for EPA?

1. Submitting Confidential Business Information (CBI). Do not submit such information to EPA through an agency website or via email. Clearly mark the part or all the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (site name, Federal Register date and page number).

• Follow directions—the agency may ask you to respond to specific questions or organize comments by referencing a Code of Federal Regulations (CFR) part or section number.

• Explain why you agree or disagree with the terms of the Settlement; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the identified comment period deadline.

Dated: August 3, 2018.
Joan Tanaka,
Acting Director, Superfund Division.

[FR Doc. 2018-17584 Filed 8-13-18; 8:45 am]

BILLING CODE 6560-50-P